DEPARTMENT OF ENERGY

Federal Energy Regulatory Commission

Combined Notice of Filings

Take notice that the Commission has received the following Natural Gas Pipeline Rate and Refund Report filings:

Docket Numbers: RP21-757-000.

Applicants: Cheyenne Plains Gas Pipeline Company, L.L.C.

Description: § 4(d) Rate Filing: Annual Fuel and LU Update and OPS Report to be effective 6/1/2021.

Filed Date: 4/29/21.

Accession Number: 20210429-5014.

Comments Due: 5 p.m. ET 5/11/21.

Docket Numbers: RP21-758-000.

Applicants: Wyoming Interstate Company, L.L.C.

Description: § 4(d) Rate Filing: Fuel and L&U Quarterly Update to be effective 6/1/2021.

Filed Date: 4/29/21.

Accession Number: 20210429-5015.

Comments Due: 5 p.m. ET 5/11/21.

Docket Numbers: RP21-759-000.

Applicants: Sierrita Gas Pipeline LLC.

Description: § 4(d) Rate Filing: FL&U Quarterly Update Filing to be effective 6/1/2021.

Filed Date: 4/29/21.

Accession Number: 20210429-5016.

Comments Due: 5 p.m. ET 5/11/21.

Docket Numbers: RP21-760-000.

Applicants: Kinetica Energy Express, LLC.

Description: § 4(d) Rate Filing: Section 4 Rate Case to be effective 6/1/2021.

Filed Date: 4/29/21.

Accession Number: 20210429-5021.

Comments Due: 5 p.m. ET 5/11/21.

Docket Numbers: RP21-761-000.

Applicants: Ruby Pipeline, L.L.C.

Description: § 4(d) Rate Filing: FLU and Electric Power Update to be effective 6/1/2021.

Filed Date: 4/29/21.

Accession Number: 20210429-5039.

Comments Due: 5 p.m. ET 5/11/21.

Docket Numbers: RP21-762-000.

Applicants: Gulfstream Natural Gas System, L.L.C.

Description: § 4(d) Rate Filing: 2021 GNGS TUP/SBA Filing to be effective 6/1/2021.

Filed Date: 4/29/21.

Accession Number: 20210429-5041.

Comments Due: 5 p.m. ET 5/11/21.

Docket Numbers: RP21-763-000.

Applicants: Alliance Pipeline L.P.

Description: Alliance Pipeline L.P. submits Annual report for operational purchase and sales for the 12-month period ending December 31, 2020 under RP21-763.

Filed Date: 4/29/21.

Accession Number: 20210429-5062.

Comments Due: 5 p.m. ET 5/11/21.

Docket Numbers: RP21-764-000.

Applicants: Sabal Trail Transmission, LLC.

Description: § 4(d) Rate Filing: 2021 TUP/SBA Annual Filing to be effective 6/1/2021.

Filed Date: 4/29/21.

Accession Number: 20210429-5065.

Comments Due: 5 p.m. ET 5/11/21.

Docket Numbers: RP21-765-000.

Applicants: Colorado Interstate Gas Company, L.L.C.

Description: § 4(d) Rate Filing: Negotiated Rate Non-Conforming TSA (BHSC Elkhart) and Housekeeping Filing to be effective 6/1/2021.

Filed Date: 4/29/21.

Accession Number: 20210429-5140.

Comments Due: 5 p.m. ET 5/11/21.

Docket Numbers: RP21-766-000.

Applicants: Southern Star Central Gas Pipeline, Inc.

Description: § 4(d) Rate Filing: Vol 2—Neg and Conforming Rate Agreements-Southwest Energy PLS to be effective 5/1/2021.

Filed Date: 4/29/21.

Accession Number: 20210429-5156.

Comments Due: 5 p.m. ET 5/11/21.

Docket Numbers: RP21-767-000.

Applicants: Gas Transmission Northwest LLC.

Description: § 4(d) Rate Filing: GTN Neg Rate Agreements to be effective 11/1/2019.

Filed Date: 4/29/21.

Accession Number: 20210429-5225.

Comments Due: 5 p.m. ET 5/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2021.
Kimberly D. Bose,
Secretary.

[FR Doc. 2021-09987 Filed 5-11-21; 8:45 am]

BILLING CODE 6717-01-P